FEDERAL TRADE COMMISSION

Granting of Requests for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination—on the dates indicated—of the waiting period provided by law and the premerger notification rules. The listing for each transaction includes the transaction number and the parties to the transaction. The grants were made by the Federal Trade Commission and the Assistant Attorney General for the Antitrust Division of the Department of Justice. Neither agency intends to take any action with respect to these proposed acquisitions during the applicable waiting period.

Early Terminations Granted
[July 1, 2025, through August 31, 2025]
07/02/2025
20241905 | S | Safran S.A.; RTX Corporation; Safran S.A.
20251327 | G | The Doctors Company; ProAssurance Corporation; The Doctors Company.
20251341 | G | Integrum Grit Co-Invest LP; Stout Intermediate Holdings, L.P.; Integrum Grit Co-Invest LP.
20251346 | G | TPG Partners IX, L.P.; AvidXchange Holdings, Inc.; TPG Partners IX, L.P.
20251350 | G | Nomura Holdings, Inc.; Macquarie Group Limited; Nomura Holdings, Inc.
20251391 | G | Baker Hughes Company; Tinicum L.P.; Baker Hughes Company.
07/08/2025
20251369 | G | G-3 Chickadee Aggregator, LLC; The Goodyear Tire & Rubber Company; G-3 Chickadee Aggregator, LLC.
20251387 | G | HP Prestige Aggregator 1, LP; MedX AMCP Holdings, LLC; HP Prestige Aggregator 1, LP.
07/15/2025
20251381 | G | Tikehau Alliance 2 Fund SLP; Leon Black; Tikehau Alliance 2 Fund SLP.
20251397 | G | Acrisure Holdings, Inc.; Global Payments Inc.; Acrisure Holdings, Inc.
20251402 | G | Olympus Water Holdings I, L.P.; Ranger Holding LLC; Olympus Water Holdings I, L.P.
20251407 | G | ACG Parent Holdings, LP; Arrow Management Holdings, LLC; ACG Parent Holdings, LP.
20251412 | G | TA XV-B, L.P.; HealthMark Holdings, LLC; TA XV-B, L.P.
20251413 | G | Gridiron Capital Fund V, L.P.; Greenix Investments, LLC; Gridiron Capital Fund V, L.P.
20251414 | G | Citation Fund I LP; GML Holdings L.L.C.; Citation Fund I LP.
20251423 | G | Sterling Infrastructure, Inc.; Ray Waddell; Sterling Infrastructure, Inc.
20251425 | G | Enzon Pharmaceuticals, Inc.; Carl C. Icahn; Enzon Pharmaceuticals, Inc.
20251429 | G | Griffon Topco, LP; Layerzero Power Systems, Inc.; Griffon Topco, LP.
20251433 | G | KKR Management LLP; Michael Marhofer; KKR Management LLP.
20251454 | G | HEICO Corporation; Andrew M. Jackson; HEICO Corporation.
20251456 | G | Hoshizaki Corporation; Mason Wells Buyout Fund IV, LP; Hoshizaki Corporation.
07/22/2025
20251394 | G | Pearson plc; Gauge Capital Parallel II Preferred SPV LP; Pearson plc.
20251408 | G | Eli Lilly and Company; Verve Therapeutics, Inc.; Eli Lilly and Company.
20251442 | G | Novant Health, Inc.; TPG Growth V DE AIV II, L.P.; Novant Health, Inc.
20251444 | G | EPFS Acquisition Holdings, LP; Frazier Healthcare Growth Buyout Fund IX, L.P.; EPFS Acquisition Holdings, LP.
20251466 | G | Samsung Electronics Co., Ltd.; Triton Fund IV L.P.; Samsung Electronics Co., Ltd.
20251468 | G | RCP Artemis Co-Invest, L.P.; AG Congress Holdings, LP; RCP Artemis Co-Invest, L.P.
20251471 | G | EQT Infrastructure VI (No.1) EUR SCSp; North Haven Infrastructure Partners III SCSp; EQT Infrastructure VI (No.1) EUR SCSp.
20251472 | G | EQT Infrastructure VI (No.1) EUR SCSp; North Haven Infrastructure Partners III (AIV-B) SCSp; EQT Infrastructure VI (No.1) EUR SCSp.
07/24/2025
20251411 | G | 9543-0302 Quebec Inc.; IC Entegra Holdings, LP; 9543-0302 Quebec Inc.
20251488 | G | Quad-C Partners X, L.P.; Warren Equity Partners ELIDO Fund I, L.P.; Quad-C Partners X, L.P.
20251497 | G | Array Technologies, Inc.; SunHoldings, LLC; Array Technologies, Inc.
20251508 | G | ISQ Global Infrastructure Fund III, L.P.; ENTEK Technology Holdings LLC; ISQ Global Infrastructure Fund III, L.P.
07/28/2025
20251428 | G | Gryphon Heritage Partners, L.P.; BCM Fund I, LP; Gryphon Heritage Partners, L.P.
20251432 | G | EOG Resources, Inc.; Canada Pension Plan Investment Board; EOG Resources, Inc.
20251465 | G | Chimera Investment Corporation; Seer Capital Partners Fund L.P.; Chimera Investment Corporation.
20251481 | G | Flowserve Corporation; Chart Industries, Inc.; Flowserve Corporation.
20251484 | G | Bridgepoint Europe VII Investments S.a r.l.; Safe Life AB; Bridgepoint Europe VII Investments S.a r.l.
20251496 | G | 1544362 B.C. Ltd.; Klick Ventures Inc.; 1544362 B.C. Ltd.
08/04/2025
20251447 | G | Ferdinand Porsche Familien Privatstiftung; Group14 Technologies, Inc.; Ferdinand Porsche Familien Privatstiftung.
20251473 | G | Durare Topco, L.P.; Capricorn Holdco, LLC; Durare Topco, L.P.
20251475 | G | Churchill Sponsor IX LLC; Plus Automation, Inc.; Churchill Sponsor IX LLC.
20251489 | G | Suzhou Dongshan Precision Manufacturing Co., Ltd.; Source Photonics Holdings (Cayman) Limited; Suzhou Dongshan Precision Manufacturing Co., Ltd.
20251498 | G | Emprise Group, Inc.; TCW Rescue Financing Fund LP; Emprise Group, Inc.
20251499 | G | Mubadala Investment Company PJSC; Tallwood Technology Partners LLC; Mubadala Investment Company PJSC.
20251501 | G | Nordic Capital XI Gamma, SCSp; Arcadia Solutions, Inc. ; Nordic Capital XI Gamma, SCSp.
08/06/2025
20251479 | G | 26N Private Equity Partners I LP; Marlin Equity V, L.P.; 26N Private Equity Partners I LP.
20251483 | G | Carronade Capital Master, LP; Telephone and Data Systems, Inc.; Carronade Capital Master, LP.
20251492 | G | ORIX Corporation; Hilco Trading, LLC; ORIX Corporation.
20251502 | G | Cortec Group Fund VIII, L.P.; AMCP III Legacy AIV, LP; Cortec Group Fund VIII, L.P.
20251513 | G | White Mountains Insurance Group, Ltd.; AQ Phoenix Parent, L.P.; White Mountains Insurance Group, Ltd.
20251519 | G | SoftBank Corp.; Cybereason Inc.; SoftBank Corp.
20251523 | G | Gryphon Digital Mining, Inc.; Hut 8 Corp.; Gryphon Digital Mining, Inc.
20251528 | G | Valor Equity Partners VI-B L.P.; Elon Musk; Valor Equity Partners VI-B L.P.
08/07/2025
20251530 | G | Vertiv Holdings Co.; Robert Lowther, Jr. and Carrie L. Lowther; Vertiv Holdings Co.
20251541 | G | Zydus Family Trust; Agenus Inc.; Zydus Family Trust.
20251544 | G | Haveli Cascade Co-Invest, L. P.; Couchbase, Inc.; Haveli Cascade Co-Invest, L.P.
20251545 | G | BlackRock, Inc.; Missouri Opportunity Irrevocable Trust; BlackRock, Inc.
20251546 | G | TSG9 L.P.; Ben Bennett; TSG9 L.P.
20251547 | G | Washington H. Soul Pattinson and Company Limited; Brickworks Limited; Washington H. Soul Pattinson and Company Limited.
20251550 | G | Fidelity National Information Services, Inc.; Amount, Inc.; Fidelity National Information Services, Inc.
20251551 | G | Brave Topco Holdings, LP; The Rise Fund II DE AIV I, L. P.; Brave Topco Holdings, LP.
20251553 | G | Unilever PLC; Yeti Acquisition Holdings, L.P.; Unilever PLC.
20251562 | G | PVE Holdings LP; Pave America Holding, LLC; PVE Holdings LP.
20251570 | G | Bayview MSR Opportunity Offshore, L.P.; McCarthy Capital Mortgage Investors, LLC; Bayview MSR Opportunity Offshore, L.P.
20251599 | G | TPG Atlas Partners, L.P.; AnovoRx Holdings, Inc.; TPG Atlas Partners, L.P.
20251608 | G | TPG GP Solutions AIV, L.P.; Earnix, Inc.; TPG GP Solutions AIV, L.P.
08/13/2025
20251368 | G | AT&T Inc.; Lumen Technologies, Inc.; AT&T Inc.
08/15/2025
20251532 | G | Thoma Bravo Discover Fund IV, L.P.; Olo Inc.; Thoma Bravo Discover Fund IV, L.P.
20251533 | G | RLDatix New Lux SCSp; Susquehanna Growth Equity Fund VI, LLLP; RLDatix New Lux SCSp.
20251542 | G | Enterprise Products Partners L.P.; Occidental Petroleum Corporation; Enterprise Products Partners L.P.
20251549 | G | Payam Zamani; Payam Zamani; Payam Zamani.
20251554 | G | Brookfield Infrastructure Fund V-C, L.P.; Hotwire Parent, LLC; Brookfield Infrastructure Fund V-C, L.P.
20251601 | G | Keyera Corp.; Plains All American Pipeline, L.P.; Keyera Corp.
20251619 | G | HPS FEP Aggregator, LP; Masked Rider Capital Holdings Co., LLC; HPS FEP Aggregator, LP.
20251623 | G | NICE Ltd.; Cognigy GmbH; NICE Ltd.
20251643 | G | Elon R. Musk; Tesla, Inc.; Elon R. Musk.
08/19/2025
20251596 | G | Mark R. Walter; The Los Angeles Lakers, Inc.; Mark R. Walter.
20251613 | G | WP EJD Aggregator L.P.; Bain Capital Distressed and Special Situations 2019; WP EJD Aggregator L.P.
20251618 | G | ICG Europe Fund VIII (Feeder) SCSp; Benjamin Harold Walker, Jr.; ICG Europe Fund VIII (Feeder) SCSp.
20251626 | G | Capgemini SE; WNS (Holdings) Limited; Capgemini SE.
20251650 | G | TCV X, L.P.; Redis, Ltd.; TCV X, L.P.
20251661 | G | ISQ Global Infrastructure Fund IV, L.P.; ENTEK Technology Holdings LLC; ISQ Global Infrastructure Fund IV, L.P.
20251663 | G | Lithia Motors, Inc.; Edward F. Napleton; Lithia Motors, Inc.
20251670 | G | Blackstone Growth II L.P.; NetBrain Technologies Inc.; Blackstone Growth II L.P.
08/21/2025
20251552 | G | The Home Depot, Inc.; GMS Inc.; The Home Depot, Inc.
08/26/2025
20251399 | G | Salesforce, Inc.; Informatica Inc.; Salesforce, Inc.
08/27/2025
20251605 | G | WCAS XIII, L.P.; H.I.G. Capital Partners V, L.P.; WCAS XIII, L.P.
20251627 | G | The LEO Foundation; C.H. Boehringer Sohn AG & Co. KG; The LEO Foundation.
20251630 | G | NICP IV Holdings Partnership; EQT Infrastructure II Limited Partnership; NICP IV Holdings Partnership.
20251631 | G | Gold Reserve Ltd.; PDV Holding, Inc.; Gold Reserve Ltd.
20251637 | G | Marathon Petroleum Corporation; Five Point Energy Fund III AIV-V LP; Marathon Petroleum Corporation.
20251638 | G | AI Global Investments II & Cy S.C. A.; Reckitt Benckiser Group plc; AI Global Investments II & Cy S.C.A.
20251653 | G | GSK plc; Jiangsu Hengrui Pharmaceuticals Co., Ltd.; GSK plc.
20251668 | G | Saudi Agricultural and Livestock Investment Company; Temasek Holdings (Private) Limited; Saudi Agricultural and Livestock Investment Company.
20251669 | G | Sempra; KKR Denali Aggregator L. P.; Sempra.
20251671 | G | Maverick Holdings, LP; KPCI Holdings Ltd.; Maverick Holdings, LP.
08/29/2025
20251664 | G | Francisco Partners VII-A, L.P.; TPG Partners IX, L.P.; Francisco Partners VII-A, L.P.
20251676 | G | Uber Technologies, Inc.; Lucid Group, Inc.; Uber Technologies, Inc.
20251677 | G | Platinum Equity Small Cap Fund II, L.P.; Anuvu Corp.; Platinum Equity Small Cap Fund II, L.P.
20251679 | G | WisdomTree, Inc.; Mr. Perry J. Vieth; WisdomTree, Inc.
20251681 | G | Mason Wells Buyout Fund V, LP; John P. Morelock, Jr.; Mason Wells Buyout Fund V, LP.
20251684 | G | Bajaj Auto Ltd.; Dipl. Ing. Stefan Pierer; Bajaj Auto Ltd.
20251691 | G | Med Platform II S.L.P.; ZimVie Inc.; Med Platform II S.L.P.
20251703 | G | CCP Strider LP; Y-mAbs Therapeutics, Inc.; CCP Strider LP.
20251720 | G | Steel Dynamics, Inc.; Richard E. Fant; Steel Dynamics, Inc.

FOR FURTHER INFORMATION CONTACT: Theresa Kingsberry (phone: 202-326-3100), Program Support Specialist, Federal Trade Commission, Bureau of Competition, Premerger Notification Office, Room CC-5301, Washington, DC 20024.

By direction of the Commission.
April J. Tabor,
Secretary.

[FR Doc. 2025-17535 Filed 9-10-25; 8:45 am]

BILLING CODE 6750-01-P